DEPARTMENT OF TRANSPORTATION

Federal Aviation Administration

14 CFR Parts 36

[Docket No. FAA-2000-7958; Notice No. 00-12]

RIN 2120-AH10

Noise Certification Regulations for Helicopters; Correction

AGENCY: Federal Aviation Administration (FAA), DOT.

ACTION: Notice of proposed rulemaking (NPRM); correction.

SUMMARY: This document contains a correction to the notice of proposed rulemaking, published in the Federal Register on October 5, 2000 (65 FR 59634). That NPRM proposed changes to the noise certification regulations for helicopters. Those proposed changes are based on a joint effort by the FAA, the European Joint Aviation Authorities (JAA), and Aviation Rulemaking Advisory Committee (ARAC), to harmonize the U.S. noise certification regulations and the European Joint Aviation Requirements (JAR) for helicopter. The harmonization of the noise certification standards would simplify airworthiness approvals for import and export purposes.

FOR FURTHER INFORMATION CONTACT: Sandy Liu, (202) 493-4864.

Correction of Publication

In NPRM FR Doc. 00-24634, beginning on page 59634 in the Federal Register issue of October 5, 2000, make the following corrections:

1. On page 59634, in column 1, in the heading section, beginning on line 4, correct “Notice No. 00-11” to read “Notice No. 00-12”.

Issued in Washington, DC on October 10, 2000.
Donald P. Byrne,
Assistant Chief Counsel, Regulations Division.

[FR Doc. 00-26513 Filed 10-13-00; 8:45 am]

BILLING CODE 4910-13-M